ENVIRONMENTAL PROTECTION AGENCY

[EPA-HQ-OPP-2009-0743; FRL-8805-2]

Product Cancellation Order for Certain Pesticide Registrations

Correction

In notice document 2010-3537 beginning on page 8341 in the issue of February 24, 2010, make the following correction:

On page 8346, in the second column, the first sentence of the last paragraph should read:

“The registrant may sell and distribute existing stocks of product(s) listed in Table 1 until February 24, 2011.”

[FR Doc. C1-2010-3537 Filed 3-5-10; 8:45 am]

BILLING CODE 1505-01-D